DEPARTMENT OF COMMERCE

National Oceanic and Atmospheric Administration

RIN 0648-XE439

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold two webinars that are open to the public.

DATES: The GMT webinars will be held on Tuesday, March 1, 2016, from 8:30 a.m. until 12 p.m. and on Monday, April 4, 2016, from 1:30 p.m. to 5 p.m.

ADDRESSES: To attend the webinars: (1) Join the meetings by visiting this link http://www.gotomeeting.com/online/webinar/join-webinar; (2) enter the Webinar ID: 137-048-875, and (3) enter your name and email address (required). After logging in to the webinars, please (1) dial this TOLL number +1 (415) 930-5321 (not a toll-free number); (2) enter the attendee phone audio access code 748-538-268; and (3) then enter your audio phone pin (shown after joining the webinar). The same log information will be used for both webinars. Participants are encouraged to use their telephone, as this is the best practice to avoid technical issues and excessive feedback (see http://www.pcouncil.org/wp-content/uploads/PFMC_Audio_Diagram_GoToMeeting.pdf PFMC GoToMeeting Audio Diagram for best practices). Technical Information and System Requirements: PC-based attendees are required to use Windows® 7, Vista, or XP; Mac®-based attendees are required to use Mac OS® X 10.5 or newer; Mobile attendees are required to use iPhone®, iPad®, Android™ phone or Android tablet (see the GoToMeeting WebinarApps). You may send an email to Kris.Kleinschmidt@noaa.gov or contact him at (503) 820-2280, extension 425 for technical assistance. A public listening station will also be available at the Pacific Council office.

Council address: Pacific Council, 7700 NE Ambassador Place, Suite 101, Portland, OR 97220-1384.

FOR FURTHER INFORMATION CONTACT: Ms. Kelly Ames, Pacific Council, (503) 820-2426.

SUPPLEMENTARY INFORMATION: The purpose of the GMT webinars are to prepare for the March and April 2016 Pacific Council meetings. The GMT may also address other assignments relating to groundfish management. No management actions will be decided by the GMT. Public comment will be accommodated if time allows, at the discretion of the GMT Chair. The GMT's task will be to develop recommendations for consideration by the Pacific Council at its March 8-14, 2016 meeting in Sacramento, CA and its April 8-14, 2016 meeting in Vancouver, WA.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at (503) 820-2425 at least 5 days prior to the meeting date.

Dated: February 9, 2016.
Tracey L. Thompson,
Acting Deputy Director, Office of Sustainable Fisheries, National Marine Fisheries Service.

[FR Doc. 2016-02933 Filed 2-11-16; 8:45 am]

BILLING CODE 3510-22-P